DEPARTMENT OF COMMERCE

Foreign-Trade Zones Board

[Docket 58-2000]

Foreign-Trade Zone 20—Hampton Roads, Virginia Area; Application for Expansion

An application has been submitted to the Foreign-Trade Zones Board (the Board) by the Virginia Port Authority (VPA), grantee of Foreign-Trade Zone (FTZ) 20, requesting authority to expand its zone in and adjacent to the Norfolk-Newport News Customs port of entry area. The application was submitted pursuant to the provisions of the FTZ Act, as amended (19 U.S.C. 81a-81u), and the regulations of the Board (15 CFR Part 400). It was formally filed on November 15, 2000.

FTZ 20 was approved on April 15, 1975 (Board Order 105, 40 FR 17884,

4/23/75), and expanded on May 8, 1997 (Board Order 887, 62 FR 28446,

5/23/97), and on July 28, 2000 (Board Order 1113, 65 FR 50179, 8/17/00). The zone project currently consists of the following sites in Virginia: Site 2 (9 acres, 65,000 sq. ft.) located at 108 Lakeview Parkway, Suffolk; Site 3 (31 acres, 3 parcels) located at 630 Woodlake Drive, at 1720 S. Military Highway, and at 575 Woodlake Drive, Chesapeake; Site 4 (905 acres) located at Norfolk International Terminals, 7737 Hampton Boulevard, Norfolk; Site 5 (242 acres) located at Portsmouth Marine Terminal, 2000 Seaboard Avenue, Portsmouth; Site 6 (184 acres) located at Newport News Marine Terminal, 25th & Warwick Boulevard, Newport News; Site 7 (490 acres, 6 parcels) located at Warren County Industrial Corridor, Routes 340, 522 and 661, Front Royal; Site 8 (394 acres) located at Bridgeway Commerce Park, Interstate 664, Suffolk; Site 9 (672 acres) located at Cavalier Industrial Park, Interstate 64 and U.S. Route 13, Chesapeake; Site 10 (26 acres) located at D.D. Jones Transfer & Warehouse, Inc., facility, 1920 Campostella Road, Chesapeake; Site 11 (177 acres) located at New Boone Farm Industrial Park, Interstate 664, Chesapeake; Site 12 (60 acres) located at PortCentre Commerce Park, Route 264, Portsmouth; Site 13 (154 acres) located at Suffolk Industrial Park, 595 Carolina Road, Suffolk; Site 14 (6,187 acres, 2 parcels) at the Goddard Space Flight Center-Wallops Flight Facility, Accomack County; Site 15 (449 acres) at the Accomack Airport Industrial Park, U.S. Highway 13 & Parkway Road, Melfa (Accomack County); Site 16 (5 acres) located at 525 & 533 Byron Street, Norfolk, within the Battlefield Lakes Technical Center (expires 7/31/2001); and, Site 17 (4 acres) located at 600, 604 and 608 Greentree Road, Chesapeake, within the Butts Station Commerce Center (expires 7/31/2001). (Site 1 has been deleted.) The applicant is requesting authority to expand the general-purpose zone to include the Battlefield Lakes Technical Center (Site 16) and Butts Station Commerce Center (Site 17) on a permanent basis and to include a new site in the Eastern Shore region of Virginia: Proposed Site 18 (130 acres)—within the 579-acre Port of Cape Charles Sustainable Technologies Industrial Park, two miles from U.S. 13 on SR 1108, Bayshore Drive, Northampton County, Virginia. The site is owned by the Joint Industrial Development Authority of Northampton County and Towns. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is January 26, 2001. Rebuttal comments in response to material submitted during the foregoing period may be submitted during the subsequent 15-day period (February 12, 2001).

A copy of the application and accompanying exhibits will be available for public inspection at each of the following locations:

Virginia Port Authority, 600 World Trade Center, Norfolk, Virginia 23510-1696

Office of the Executive Secretary, Foreign-Trade Zones Board, Room 4008, U.S. Department of Commerce, 14th and Pennsylvania Avenue, NW, Washington, DC 20230.

Dated: November 15, 2000.
Dennis Puccinelli,
Executive Secretary.

[FR Doc. 00-30146 Filed 11-24-00; 8:45 am]

BILLING CODE 3510-DS-P